COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by nonprofit agencies employing persons who are blind or have other severe disabilities.

Comments Must Be Received On or Before: 2/25/2013.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN: MR 1057—Butterfly Mop, Hybrid Sponge.

NSN: MR 1058—Refill, Hybrid Sponge Head, Blue.

NPA: L.C. Industries for the Blind, Inc., Durham, NC.

Contracting Activity: Military Resale-Defense Commissary Agency (DeCA), Fort Lee, VA.

Coverage: C-List for the requirements of military commissaries and exchanges as aggregated by the Defense Commissary Agency.

Coveralls, Breathable, Particulate Resistant Design

NSN: 8415-LL-L10-0002—Medium.

NSN: 8415-LL-L10-0003—Large.

NSN: 8415-LL-L10-0004—X-Large.

NSN: 8415-LL-L10-0005—2X-Large.

NSN: 8415-LL-L10-0006—3X-Large.

NSN: 8415-LL-L10-0007—4X-Large.

NPA: Northeastern Association of the Blind at Albany, Inc., Albany, NY.

Contracting Activity: Defense Logistics Agency Maritime—Norfolk, Portsmouth, VA.

Coverage: C-List for 100% of the requirement of the U.S. Navy, as aggregated by the Defense Logistics Agency Maritime—Norfolk, Portsmouth, VA.

Barry S. Lineback,
Director, Business Operations.

[FR Doc. 2013-01527 Filed 1-24-13; 8:45 am]

BILLING CODE 6353-01-P